DEPARTMENT OF THE INTERIOR

Bureau of Land Management

[LLMTB07200-L51100000.GN0000 LVEMCE070000 252X; MTM78300]

Notice of Availability of the Final Environmental Impact Statement for the Graymont Western U.S., Inc. Proposed Mine Expansion, Broadwater County, MT

AGENCY: Bureau of Land Management, Interior.

ACTION: Notice of Availability.

SUMMARY: In accordance with the National Environmental Policy Act of 1969 and the Federal Land Policy and Management Act of 1976, a Final Environmental Impact Statement (EIS) has been prepared for the Graymont Western U.S., Inc. Proposed Mine Expansion. The mine permit is administered by the Bureau of Land Management (BLM) Butte Field Office and the Montana Department of Environmental Quality (DEQ). Operations on public lands in the permit area are on mining claims located in accordance with the General Mining Law of 1872, as amended.

DATES: The Final EIS will be available for review for 30 days following the date the Environmental Protection Agency publishes the Notice of Availability in the Federal Register. A Record of Decision will be prepared following the 30-day public availability period.

ADDRESSES: Copies of the Final EIS have been sent to affected Federal, State, and local government agencies and to interested parties. Copies of the Final EIS are available for public inspection at the Montana Department of Environmental Quality, 1520 East 6th Avenue, Helena, MT 59620-0901 and the Bureau of Land Management, Butte Field Office, 106 N. Parkmont, Butte, MT 59701. Interested parties may also review the Final EIS on the internet at http://www.deq.mt.gov.

FOR FURTHER INFORMATION CONTACT: Greg Hallsten, Montana Department of Environmental Quality, PO Box 200901, Helena, MT 59620-0901, or David Williams, Bureau of Land Management, Butte Field Office, 106 N. Parkmont, Butte, MT 59701.

SUPPLEMENTARY INFORMATION: Graymont Western U.S., Inc. submitted a Plan of Operations on February 22, 2006, to the BLM and the DEQ to expand its existing limestone quarry operation, which is located on unpatented mining claims on public lands west of Townsend, Montana. This proposal is a continuation of mining along a prominent limestone ridge which forms the crest of the “Limestone Hills.” The Notice of Intent to prepare the EIS was published in the Federal Register on May 18, 2007, and the Notice of Availability of the Draft EIS was announced in the Federal Register on December 19, 2008. Mining was originally permitted in the area beginning in 1981 and has continued since that time. The principal concern, developed through public meetings and agency review, was potential loss of mule deer and bighorn sheep habitat and winter-browse vegetation, principally mountain mahogany. The Final EIS evaluated three alternatives: No Action, the Proposed Action, and Alternative A, Modified Pit Backfill. The No Action Alternative would limit mine disturbance to the currently permitted 735 acres of disturbance, and the mine would continue to operate until it reached the permitted limits, probably in 7 to 12 years. The Proposed Action Alternative would allow for an additional 1,313 acres of disturbance and allow operations to continue for 35 to 50 years. The Modified Pit Backfill Alternative modifies reclamation at the site to provide for more diverse topography and soils that favor winter-browse species but does not change the proposed disturbance acreage or years of future operations.

Richard M. Hotaling,
Butte Field Manager.

[FR Doc. 2010-12789 Filed 5-27-10; 8:45 am]

BILLING CODE 4310-DN-P